DEPARTMENT OF COMMERCE

National Oceanic and Atmospheric Administration

[Docket No. 0811251527-9165-02]

RIN 0648-ZB55

Availability of Grants Funds for Fiscal Year 2009; Amendment

AGENCY: National Oceanic and Atmospheric Administration (NOAA), Department of Commerce (DOC).

ACTION: Notice of funding availability; amendment.

SUMMARY: NOAA publishes this notice to amend the solicitation “NOAA Bay Watershed Education and Training (B-WET) Program,” which was originally announced in the Federal Register on Tuesday, December 16, 2008. Due to technical difficulties, potential applicants may have experienced problems when attempting to submit applications for the “NOAA Bay Watershed Education and Training (B-WET) Program,” solicitation (73 FR 76341) through Grants.gov. This notice announces that the B-WET Program will accept applications from applicants who were unsuccessful in submitting their application through Grants.gov during the original solicitation period.

DATES: Applicants will be required to provide documentation of the problem and appropriate paper application materials to the B-WET National Coordinator by 5:00 PM ET, February 27, 2009.

ADDRESSES: B-WET National Coordinator, NOAA Office of Education, 1401 Constitution Avenue NW, Room 6863, Washington, DC 20230. Please note: Because hard copies of applications submitted via the US Postal Service can take up to 4 weeks to reach this office, applicants are advised to submit their applications via expedited shipping methods (e.g., Airborne Express, DHL, FedEx, UPS, etc.).

FOR FURTHER INFORMATION CONTACT: Questions about this notice may be directed to Bronwen Rice, B-WET National Coordinator, by phone at 202-482-6797 or e-mail at bronwen.rice@noaa.gov.

SUPPLEMENTARY INFORMATION: NOAA publishes this notice to inform the public of an amendment to the solicitation “NOAA Bay Watershed Education and Training (B-WET) Program” announced in the Federal Register on December 16, 2008 (73 FR 76341). Due to issues with the submission process and system-wide delays in using Grants.gov on the days prior to and including the deadline, some potential applicants for the NOAA B-WET program may have been unsuccessful in submitting their applications through the website. To ensure that all applicants have the opportunity to apply for the B-WET program, NOAA will accept paper applications to this announcement where it can be shown that the applicants attempted to submit via Grants.gov by the January 26 deadline originally published in the announcement, and who contacted a Federal Program Officer to communicate their problem. If these applicants would like to have their application considered for funding, they may submit a complete paper application package to the B-WET National Coordinator by 5:00 PM ET, February 27, 2009.

All information and requirements published in NOAA Bay Watershed Education and Training (B-WET) Program solicitation published in the Federal Register on December 16, 2008 apply to any applications submitted pursuant to this notice.

Limitation of Liability

In no event will NOAA or the Department of Commerce be responsible for proposal preparation costs if this program is cancelled because of other agency priorities. Publication of this announcement does not oblige NOAA to award any specific project or to obligate any available funds. Applicants are hereby given notice that funding for the Fiscal Year 2009 program is contingent upon the availability of Fiscal Year 2009 appropriations.

Universal Identifier

Applicants should be aware they are required to provide a Dun and Bradstreet Data Universal Numbering System (DUNS) number during the application process. See the October 30, 2002, Federal Register, (67,FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-award Notification Requirements for Grants and Cooperative Agreements contained in the Federal Register notice of October 1, 2001 (66 FR 49917), as amended by the Federal Register notice published on: October 30, 2002 (67 FR 66109); December 30, 2004 (69 FR 78389); and February 11, 2008 (73 FR 7696) are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 12, 2009.
Mitchell J. Ross,
Director, NOAA Acquisition and Grants Office.

[FR Doc. E9-3605 Filed 2-19-09; 8:45 am]

BILLING CODE 3510-22-S